ENVIRONMENTAL PROTECTION AGENCY

[ER-FRL-8994-6]

Environmental Impacts Statements; Notice of Availability

Responsible Agency: Office of Federal Activities, General Information (202) 564-1399 or http://www.epa.gov/compliance/nepa/.

Weekly receipt of Environmental Impact Statements

Filed 01/03/2011 Through 01/07/2011

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110000, Final EIS, USFS, CA, Concow Hazardous Fuels Reduction Project, Propose to Reduce Hazardous Forest Fuels, Plus Establish and Maintain Spaces—Defensible Fuel Profile Zones (DFPZs), Feather River Ranger District, Plumas National Forest, Towns of Paradise, Magalia, Concow, Butte County, CA, Wait Period Ends: 02/14/2011, Contact: Carol Spinos 503-532-8932.

EIS No. 20110001, Draft Supplement, APHIS, NY, Bird Hazard Reduction Program, John F. Kennedy International Airport, Gateway National Recreation Area, Jamaica Bay National Wildlife Refudge, Queens County, NY, Comment Period Ends: 02/28/2011, Contact: Martin S. Lowney 518-477-4837.

EIS No. 20110002, Draft EIS, FHWA, PR, Cidra Corridor Study Project, Construction and Operation from Cidra Industrial Street to PR-52, Municipality of Cidra and Cayey, PR, Comment Period Ends: 02/28/2011, Contact: John Simkins 804-775-3342.

EIS No. 20110003, Final EIS, FHWA, UT, Tooele County Midvalley Highway Project, To Address Traffic Congestion on UT-36 and at the I-80/Lake Point interchange through the Year 2030, Funding, Tooele County, UT, Wait Period Ends: 02/14/2011, Contact: Edward Woolford 801-963-0182.

EIS No. 20110004, Draft EIS, NPS, CA, Golden Gate National Recreation Area Project, Proposed Dog Management Plan, Implementation, San Francisco, CA, Comment Period Ends: 04/13/2011, Contact: Shirwin Smith 415-561-4947.

EIS No. 20110005, Final EIS, FHWA, MO, First Tier—Future I-70 Kansas City Metro Project, Proposing to Improve I-70 Corridor from East of the Missouri and Kansas State Line to East of I-470 Interchange, Downtown Central Business Freeway Loop, Kansas City, Jackson County, MO, Wait Period Ends: 02/18/2011, Contact: Peggy Casey 573-636-7104.

EIS No. 20110006, Draft EIS, TVA, AL, Muscle Shoals Reservation Redevelopment, Disposal and Potential Redevelopment Approximately 1, 400 Acres of its Muscle Shoals Reservation, Muscle Shoals, Colbert County, AL, Comment Period Ends: 02/28/2011, Contact: Standford E. Davis 865-632-2915.

EIS No. 20110007, Final Supplement, BLM, NV, Cortez Hills Expansion Project, Updated Information to Refine the Analysis of Specific Air Quality Effects and Dewatering Mitigation Effectiveness, Proposes to Construct and Operate a New Facilities and Expansion of the Existing Open-Pit Gold Mining and Processing Operations, Crescent Valley, Lander and Eureka Counties, NV, Wait Period Ends: 02/14/2011, Contact: Christopher Worthington 775-635-4000.

EIS No. 20110008, Draft EIS, BIA, CA, Big Sandy Rancheria and Casino and Resort Project, Proposing Construct a Gaming and Entertainment Facility, Approval of Lease Agreement Grant, Big Sandy Rancheria Band of Western Mono Indians, East of Friant, Fresno County, CA, Comment Period Ends: 03/28/2011, Contact: Marvin Keller 703-390-6470.

EIS No. 20110009, Final EIS, GSA, DC, Nebraska Avenue Complex Master Plan, Propose to Consolidate Over 28,000 DHS Employees, Location 3801 Nebraska Ave., NW., Washington, DC, Wait Period Ends: 03/01/2011, Contact: Suzanne Hill 202-205-5821.

EIS No. 20110010, Final EIS, USN, CA, Silver Strand Training Complex (SSTC) Project, Proposed Naval Training Activities, Cities of Coronado and Imperial Beach, San Diego County, CA, Wait Period Ends: 02/14/2011, Contact: Amy P. Kelley 619-532-2799.

Amended Notices

EIS No. 20100453, Draft EIS, USACE, 00, Savannah Harbor Expansion Project, Navigation Improvement to the Federal Navigation Channel, Chatham County, GA and Jasper County, SC, Comment Period Ends: 01/25/2011, Contact: William G. Bailey 912-652-5781. Revision to FR Notice 11/26/2010: Extending Comment Period from 01/10/2011 to 01/25/2011.

EIS No. 20100468, Draft EIS, USACE, MS, Mississippi River Gulf Outlet (MRGO) Ecosystem Restoration Study, To Develop a Comprehensive Ecosystem Restoration Plan to Restore the Lake Borgne, Implementation, MS, Comment Period Ends: 02/14/2011, Contact: Tammy Gilmore 504-862-1002. Revision to FR Notice 12/17/2010: Extending Comment Period from 01/31/2011 to 02/14/2011.

EIS No. 20100481, Draft EIS, FERC, CA, Eagle Mountain Pumped Storage Hydroelectric Project, Licensing Application for Eagle Mountain Mine, near the town of Desert Center, Riverside County, CA, Comment Period Ends: 02/14/2011, Contact: Kenneth Hogan 202-502-8434. Revision to FR Notice 12/30/2010: Extending Comment Period from 02/14/2011 to 02/28/2011.

EIS No. 20100485, Final EIS, USFS, CA, Hi-Grouse Project, Proposes to Treat Ponderosa Pine and Mixed Conifer Stands to Improve Long-Term Forest Health and Reduce Fuels within the Goosenest Adaptive Management Area, Goosenest Ranger District, Klamath National Forest, Siskiyou Co, CA, Wait Period Ends: 02/07/2011, Contact: Wendy Coats 530-841-4470 Revision to FR Notice 01/07/2011: Correction to Wait Period from 02/02/2011 to 02/07/2011.

Dated: January 11, 2011.
Robert W. Hargrove,
Director, NEPA Compliance Division, Office of Federal Activities.

[FR Doc. 2011-767 Filed 1-13-11; 8:45 am]

BILLING CODE 6560-50-P